DEPARTMENT OF DEFENSE

Department of the Navy

Notice of Public Hearings for the Navy Cherry Point Range Complex Draft Environmental Impact Statement/Overseas Environmental Impact Statement

AGENCY: Department of the Navy, DoD.

ACTION: Notice.

SUMMARY: Pursuant to section 102(2)(c) of the National Environmental Policy Act (NEPA) of 1969 (42 United States Code [U.S.C.] 4321); the Council of Environmental Quality (CEQ) Regulations for implementing the procedural provisions of NEPA (Title 40 Code of Federal Regulations [CFR] Parts 1500-1508); Department of the Navy Procedures for Implementing NEPA (32 CFR part 775); Executive Order (EO) 12114, Environmental Effects Abroad of Major Federal Actions; and Department of Defense (DoD) regulations implementing EO 12114 (32 CFR Part 187), the Department of the Navy (Navy) has prepared and filed with the U.S. Environmental Protection Agency a Draft Environmental Impact Statement/Overseas Environmental Impact Statement (EIS/OEIS) on September 2, 2008. The National Marine Fisheries Service (NMFS) is a Cooperating Agency for the EIS/OEIS. This notice announces the dates and locations of the public hearings for this Draft EIS/OEIS, and provides supplementary information about the environmental planning effort.

The EIS/OEIS evaluates the potential environmental impacts over a 10-year planning horizon associated with Navy Atlantic Fleet and Marine Corps training; research, development, testing, and evaluation (RDT&E) activities; and associated range capabilities enhancements (including infrastructure improvements) within the existing Navy Cherry Point (Navy CHPT) Range Complex. The Navy CHPT Range Complex encompasses 18,617 square nautical miles (nm²) of offshore surface and subsurface operating area (OPAREA); 12,529 nm² of deep ocean area greater than 100 fathoms (600 feet), and 18,966 nm² of overlying Special Use Airspace (SUA) off the coast of North Carolina. The geographic scope of the EIS/OEIS, referred to as the Navy Cherry Point Study Area, includes the OPAREA and SUA, plus the 3 NM strip of coastal water from mean high tide line extending seaward to the western OPAREA boundary. A Notice of Intent for this Draft EIS/OEIS was published in the Federal Register on April 30, 2007 (Vol. 72, No. 82, pp. 21248-21249).

The Navy will conduct two public hearings to receive oral and written comments on the Draft EIS/OEIS. Federal, state and local agencies and interested individuals are invited to be present or represented at the public hearings. An open house session will precede the scheduled public hearing at each of the locations listed below and will allow individuals to review the information presented in the Navy CHPT Range Complex Draft EIS/OEIS. Navy and Marine Corps representatives will be available during the open house sessions to clarify information related to the Draft EIS/OEIS.

Dates and Addresses: All meetings will start with an open house session from 5 p.m. to 7 p.m. A formal presentation and public comment period will be held from 7 p.m. to 9 p.m. Public hearings will be held on the following dates and at the following locations: October 14, 2008 at the North Carolina Maritime Museum, 315 Front St., Beaufort, NC and October 15, 2008 at the Best Western Coastline Inn & Convention Center, 503 Nutt St., Wilmington, NC.

FOR FURTHER INFORMATION CONTACT: Naval Facilities Engineering Command, Atlantic, Attention, EV22SA (Navy CHPT EIS/OEIS PM), 6506 Hampton Boulevard, Norfolk, Virginia 23508-1278; facsimile: 757-322-4894 or http://www.navycherrypointrangecomplexeis.com/.

SUPPLEMENTARY INFORMATION: The Navy has identified the need to support and conduct current, emerging and future training and RDT&E operations in the Navy CHPT Range Complex. The proposed action does not indicate major changes to Navy CHPT Range Complex facilities, operations, training, or RDT&E capacities over the 10-year planning period. Rather, the proposed action would result in relatively small-scale but critical enhancements to the Navy CHPT Range Complex that are necessary if the Navy and Marine Corps are to maintain a state of military readiness commensurate with their national defense mission.

The EIS/OEIS addresses the training strategies described in the Fleet Readiness Training Plan (FRTP) that implements the Fleet Response Plan (FRP), which ensures continuous availability of agile, flexible, trained, and ready surge-capable (rapid response) forces. The recommended range enhancements, and current and future training and testing operations, which have the potential to impact the environment are the primary focus of the EIS/OEIS.

The purpose for the proposed action is to:

• Achieve and maintain Fleet readiness using the Navy CHPT Range Complex to support and conduct current, emerging, and future training and RDT&E operations;

• Expand warfare missions supported by the Navy CHPT Range Complex; and

• Upgrade and modernize existing range capabilities to enhance and sustain Navy and Marine Corps training and RDT&E.

The need for the proposed action is to provide range capabilities for training and equipping combat-capable naval forces ready to deploy worldwide. In this regard, the Navy CHPT Range Complex furthers the Navy's execution of its Congressionally mandated roles and responsibilities under title 10 U.S.C. 5062. To implement this Congressional mandate, the Navy needs to:

• Maintain current levels of military readiness by training in the Navy CHPT Range Complex;

• Accommodate future increases in operational training tempo in the Navy CHPT Range Complex and support the rapid deployment of naval units or strike groups;

• Achieve and sustain readiness of ships and squadrons consistent with the FRP so the Navy and Marine Corps can quickly surge significant combat power in the event of a national crisis or contingency operation;

• Support the acquisition and implementation into the Fleet of advanced military technology. The Navy CHPT Range Complex must adequately support the testing and training needed for new aircraft and weapons systems; and

• Maintain the long-term viability of the Navy CHPT Range Complex while protecting human health and the environment, and enhancing its quality, communication capability and safety.

Support to current, emerging and future training and RDT&E operations, including implementation of range enhancements, entails the actions evaluated in the EIS/OEIS.

These potentially include:

• Increase use of contractor-operated aircraft that simulate enemy aircraft during training (Commercial Air Services Support for Fleet Opposition Forces and Electronic Warfare Threat Training);

• Increase anti-piracy and maritime interdiction training (Anti-terrorism Surface Strike Group Training);

• Support MH-60R/S helicopter warfare mission areas;

• Designate a littoral mine warfare training area for deploying temporary mineshapes in support of Strike Group mine warfare training during major exercises; and,

• Upgrade the Mid-Atlantic Electronic Warfare Range (MAEWR).

The proposed action is to support and conduct current and emerging training and RDT&E in the Navy CHPT Range Complex. To achieve this, the Navy proposes to:

• Maintain baseline training and testing operations at current levels, plus sufficient additional operations to support a surge capability in compliance with FRP.

• Provide flexibility to respond to real-world situations with increased training operations, and to accommodate mission expansion, emerging force structure changes (including those resulting from the introduction of new aircraft and weapons systems), and new range capabilities.

• Eliminate high explosive bombing exercises at sea, and implement enhanced mine warfare training capability within the range complex.

Three alternatives were evaluated in the Navy CHPT Range Complex EIS/OEIS:

No Action Alternative: Maintain training and RDT&E operations at current levels to include surge consistent with the FRTP;

Alternative 1: All operations in the No Action Alternative, plus a 10% increase in most training and testing operations, plus changes in type and quantity of operations and tactical employment of forces to accommodate expanded mission areas, force structure changes and new range capabilities. Specifically:

• Train tailored naval units to conduct rapid response anti-piracy, anti-terrorism and maritime interdiction operations (Maritime Security Surge Surface Strike Group);

• Conduct surface-to-air missile training;

• Conduct MH-60R/S helicopter training;

• Conduct training with new Organic Mine Countermeasures systems;

• Increase use of contractor-operated aircraft to support fleet training (Commercial Air Services); and

• Upgrade electronic warfare anti-ship and anti-aircraft threat emitters (Mid-Atlantic Electronic Warfare Range).

Alternative 2 (Preferred Alternative): All operations in Alternative 1 plus:

• Eliminate bombs at-sea with high explosive warheads.

• Designate mine warfare training areas, some of which can accommodate temporary deployment of training mineshapes, in support of Strike Group mine warfare training events during major exercises.

The Assistant Secretary of the Navy (Installations & Environment) will decide which alternative analyzed in the EIS/OEIS provides the optimum level and mix of training and testing operations and range capabilities enhancements in the Navy CHPT Range Complex that satisfies the purpose and need while considering all reasonably foreseeable environmental impacts.

Three alternatives were considered but eliminated from further consideration. These alternatives are:

1. Alternative Range Complex Locations—No single range complex on the East Coast can accommodate the entire spectrum of Navy and Marine Corps training and testing. To maintain a high level of combat readiness for naval forces at best value to the U.S. taxpayer, the Navy and Marine Corps homeported their forces in multiple concentration areas rather than a single area, in part to ensure the surrounding training and testing areas could support their specific needs. The result is a system of range complexes, each optimized to support the limited set of warfare areas that predominate in that locale. The Navy CHPT Range Complex possesses a number of historical and natural features that make it an indispensable component of the Navy's East Coast system of ranges. Other locations do not provide reasonable alternatives for required training purposes/activities described above, and as a result, alternative training locations were eliminated from further consideration.

2. Conduct Simulated Training Only—Under this alternative, only simulated training would be conducted using computer models and classroom training. While the Navy currently makes extensive use of computer simulation and classroom instruction as effective training tools, they cannot exclusively replace live training. Simulation cannot replicate the environment of live coordinated training and major exercises, where multiple ships, submarines and aircraft, and hundreds or thousands of men and women are participating in training activities in a coordinated fashion to accomplish a common military objective. Because of the need to train as we fight, this alternative would fail to meet the purpose and need of the proposed action and therefore, is not evaluated further in the EIS/OEIS.

3. Practice Ammunition Use—An alternative that would rely entirely on inert, practice ammunition use within the Navy CHPT Range Complex would not achieve the necessary levels of proficiency in firing weapons in a high stress and realistic environment. Inert, practice ammunition is used throughout the Navy CHPT Range Complex, and provides opportunity to implement a successful, integrated training program while reducing the risk and expense typically associated with live ammunition. However, Navy and Marine Corps personnel need to gain proficiency in handling and employment of ordnance with live warheads in a safe, controlled training environment before entering the inherently unsafe environment of live combat. Consequently, this alternative fails to meet the purpose and need of the proposed action and was not carried forward for analysis.

Nineteen resources and issues were described and analyzed in the EIS/OEIS. These include but are not limited to water resources, air quality, marine communities, marine mammals, sea turtles, fish and essential fish habitat, seabirds and migratory birds, cultural resources, regional economy, and public health and safety. The Navy used subject matter experts, public and agency scoping comments, previous environmental analyses, previous agency consultations, laws, regulations, Executive Orders and resource-specific information in a screening process to identify aspects of the proposed action that could act as stressors to resources and issues evaluated in the EIS/OEIS.

The stressors considered for analysis of environmental consequences include, but are not limited to, vessel movements (disturbance and collisions), aircraft overflights (disturbance and strikes), non-explosive practice munitions, and underwater detonations and high explosive ordnance.

In accordance with 50 CFR 401.12, the Navy submitted a Biological Evaluation to assess the potential effects from the proposed action on marine resources and anadromous fish protected by the NMFS under the Endangered Species Act (ESA). In accordance with the Marine Mammal Protection Act MMPA (16 U.S.C. 1371[a][5]), the Navy submitted a request for Letter of Authorization to the NMFS for the incidental taking of marine mammals by the proposed action which was acknowledged by NMFS in a Notice of Receipt published in the Federal Register (Vol. 73, No. 131, pp 38991-38993) on July 08, 2008.

The Navy submitted a Consultation Package in accordance with legal requirements set forth under regulations implementing Section 7 of the ESA (50 CFR 402; 16 U.S.C 1536 (c)) for listed species under jurisdiction of the U.S. Fish and Wildlife Service. The analysis of environmental stressors indicated that implementation of the No Action Alternative, Alternative 1, or Alternative 2 would not result in unavoidable significant adverse effects to resources analyzed. The analysis of environmental stressors and alternatives indicated no significant impact to resources in U.S. territorial waters; likewise, no significant harm in non-territorial waters is expected.

The Navy CHPT Draft EIS/OEIS was distributed to Federal, State, and local agencies, elected officials, and other interested individuals and organizations on September 12, 2008. The public comment period will end on October 27, 2008. Copies of the Navy CHPT Draft EIS/OEIS are available for public review at the following libraries: Hatteras Library, 57690 NC Highway 12, Hatteras, NC; New Hanover County Library, 201 Chestnut Street, Wilmington, NC; Webb Memorial Library Center, 812 Evans Street, Morehead City, NC; Onslow County Library, 58 Doris Avenue East, Jacksonville, NC; Kill Devil Hills Branch Library, 400 S. Mustian St., Kill Devil Hills, NC; Havelock-Craven County Public Library, 301 Cunningham Boulevard, Havelock, NC. The Navy CHPT Draft EIS/OEIS is also available for electronic public viewing at: http://www.navycherrypointrangecomplexeis.com/.

A paper copy of the Executive Summary or a single CD with the Navy CHPT Draft EIS/OEIS will be made available upon written request by contacting Naval Facilities Engineering Command, Atlantic Division; Attention: Code EV22SA (Navy CHPT EIS/OEIS PM); 6506 Hampton Blvd.; Norfolk, VA 23508-1278. Facsimile: 757-322-4894. Federal, State, and local agencies and interested parties are invited to be present or represented at the public hearing. Written comments can also be submitted during the open house sessions preceding the public hearings.

Oral statements will be heard and transcribed by a stenographer; however, to ensure the accuracy of the record, all statements should be submitted in writing. All statements, both oral and written, will become part of the public record on the Draft EIS/OEIS and will be responded to in the Final EIS/OEIS. Equal weight will be given to both oral and written statements. In the interest of available time, and to ensure all who wish to give an oral statement have the opportunity to do so, each speaker's comments will be limited to three (3) minutes. If a long statement is to be presented, it should be summarized at the public hearing with the full text submitted either in writing at the hearing, or mailed or faxed to Naval Facilities Engineering Command, Atlantic Division; Attention: Code EV22SA (Navy CHPT EIS/OEIS PM); 6506 Hampton Blvd.; Norfolk, VA 23508-1278. Facsimile: 757-322-4894. In addition, comments may be submitted on-line at http://www.navycherrypointrangecomplexeis.com/ during the comment period. All written comments must be postmarked by October 27, 2008 to ensure they become part of the official record. All comments will be addressed in the Final EIS/OEIS.

Dated: September 3, 2008.
T. M. Cruz,
Lieutenant Commander, Judge Advocate General's Corps, U.S. Navy, Federal Register Liaison Officer.

[FR Doc. E8-21342 Filed 9-11-08; 8:45 am]

BILLING CODE 3810-FF-P